DEPARTMENT OF THE INTERIOR

Fish and Wildlife Service

[Docket No. FWS-HQ-MB-2018-0048; FXMB 12320900000//201//FF09M29000]

List of Bird Species To Which the Migratory Bird Treaty Act Does Not Apply

AGENCY: Fish and Wildlife Service, Interior.

ACTION: Notice of availability.

SUMMARY: We, the U.S. Fish and Wildlife Service, are publishing an amended list of the nonnative bird species that have been introduced by humans into the United States or U.S. territories and to which the Migratory Bird Treaty Act (MBTA) does not apply. The Migratory Bird Treaty Reform Act (MBTRA) of 2004 amends the MBTA by stating that the MBTA applies only to migratory bird species that are native to the United States or U.S. territories, and that a native migratory bird species is one that is present as a result of natural biological or ecological processes. The MBTRA requires that we publish a list of all nonnative, human-introduced bird species to which the MBTA does not apply. We first published a list in 2005. We update the 2005 list with this notice. This notice identifies those species belonging to biological families referred to in treaties the MBTA implements that are not protected because their presence in the United States or U.S. territories is solely the result of intentional or unintentional human-assisted introductions. This notice presents an updated list of species not protected by the MBTA, which reflects current taxonomy, removes one species that no longer occurs in a protected family, and removes two species as a result of new distributional records documenting their natural occurrence in the United States.

FOR FURTHER INFORMATION CONTACT: Eric L. Kershner, Chief, Branch of Conservation, Permits, and Regulations; Division of Migratory Bird Management; U.S. Fish and Wildlife Service; MS: MB; 5275 Leesburg Pike, Falls Church, VA 22041-3803; (703) 358-2376.

SUPPLEMENTARY INFORMATION:

What is the purpose of this notice?

The purpose of this notice is to provide the public an updated list of “all nonnative, human-introduced bird species to which the Migratory Bird Treaty Act (16 U.S.C. 703 et seq.) does not apply,” as described in the MBTRA of 2004 (Division E, Title I, Sec. 143 of the Consolidated Appropriations Act, 2005; Pub. L. 108-447). The MBTRA states that “[a]s necessary, the Secretary may update and publish the list of species exempted from protection of the Migratory Bird Treaty Act.” The Service published the initial list required by the MBTRA on March 15, 2005 (70 FR 12710).

This notice is strictly informational. It merely updates our 2005 list of the bird species that are included in the four migratory bird treaties (see below) but to which the MBTA does not apply. The presence or absence of a species on this list has, by itself, no legal effect. This list does not change the protections that any of these species might receive under other international agreements and statutes, such as the Convention on International Trade in Endangered Species of Wild Fauna and Flora (CITES; T.I.A.S. 8249), the Endangered Species Act of 1973 (16 U.S.C. 1531 et seq.), or the Wild Bird Conservation Act of 1992 (16 U.S.C. 4901 et seq.). Regulations implementing the MBTA are in parts 10, 20, and 21 of title 50 of the Code of Federal Regulations (CFR). The list of migratory birds covered by the MBTA is located at 50 CFR 10.13. Elsewhere in today's Federal Register, we publish a final rule to update the list of migratory bird species protected under the MBTA at 50 CFR 10.13; that rule contains information on the four migratory bird treaties between the United States and four neighboring countries (Great Britain (for Canada), Mexico, Russia, and Japan).

What was the response of the public to the draft list?

On November 28, 2018, we published in the Federal Register (83 FR 61161) a notice announcing a draft list of the nonnative, human-introduced bird species to which the MBTA does not apply. We solicited public comments on the draft list for 60 days, ending on January 28, 2019. We received two comments in response to the draft list, one from a private individual and one from an organization. Below, we discuss the comments we received and our responses to them.

Comment (1): We received one comment from the Western Energy Alliance, which requested that we include European starling (Sturnus vulgaris) and house sparrow (Passer domesticus) on the list of bird species not protected by the MBTA.

Response: The draft list of nonnative, human-introduced species was restricted to species belonging to biological families of migratory birds covered under any of the migratory bird treaties with Great Britain (for Canada), Mexico, Russia, or Japan. We excluded species not occurring in biological families included in the treaties from the draft list. For clarification purposes, following the list of species, we have added a list of biological families that do not qualify for protection under the MBTA and that have species known to occur in the United States or U.S. territories, whether human-introduced or by natural occurrence. This includes house sparrow (Passer domesticus), which occurs in the Passeridae family, and European starling (Sturnus vulgaris), which occurs in the Sturnidae family. As defined in the treaty with Japan, the only members of the Sturnidae family that qualify for protection under the MBTA are those included in that treaty's annex that occur naturally in the United States or U.S. territories.

Comment (2): A private individual commented on the significance of birds to healthy ecosystems, to natural habitats, and to humans. The commenter also noted the decline of bird populations and that nonnative species can displace native bird species.

Response: The purpose of this updated list of bird species to which the MBTA does not apply is to reflect current taxonomy and distribution. This list itself does not reflect the Service's obligation and efforts to conserve healthy bird populations.

What criteria did we use to identify bird species not protected by the MBTA?

The criteria remain the same as stated in our notice published on March 15, 2005, at 70 FR 12710.

Summary of updates to the 2005 list of bird species not protected by the MBTA

This notice presents a list of species that are not protected by the MBTA to reflect current taxonomy, to remove one species that no longer occurs in a protected family, and to remove two species as a result of new distributional records documenting their natural occurrence in the United States. We present the taxonomic updates in the list below. Japanese bush-warbler (Cettia diphone), great black hawk (Buteogallus urubitinga), and red-legged honeycreeper (Cyanerpes cyaneus) appeared on the March 15, 2005, list (70 FR 12710), but are not on this list. Japanese bush-warbler no longer occurs in a protected family due to changes in taxonomy. New distributional records document the natural occurrence of great black hawk and red-legged honeycreeper in the United States.

Please note that the distributional records concerning great black hawk came to our attention after the publication of our draft list on November 28, 2018 (83 FR 61161); therefore, while our draft list included great black hawk on the list of species that are not protected by the MBTA, this list does not. See our final rule to update the list of migratory bird species protected under the MBTA at 50 CFR 10.13, published elsewhere in today's Federal Register, for more information about the status of great black hawk under the MBTA.

The List

What are the nonnative, human-introduced bird species to which the MBTA does not apply that belong to biological families of migratory birds covered under any of the migratory bird conventions (treaties) with Great Britain (for Canada), Mexico, Russia, or Japan?

We made this list as comprehensive as possible by including all nonnative, human-assisted species that belong to any of the families referred to in the treaties and whose occurrence(s) in the United States or U.S. territories have been documented in the scientific literature. It is not, however, an exhaustive list of all the nonnative species that could potentially appear in the United States or U.S. territories as a result of human assistance. New species of nonnative birds are reported annually in the United States, and it is impossible to predict which species might appear in the near future.

The appearance of a species on this list does not preclude its addition to the list of migratory birds protected by the MBTA (50 CFR 10.13) at some later date should evidence come to light confirming natural occurrence in the United States or U.S. territories.

The list arranges 122 species by family according to the American Ornithological Society (AOS) (1998, as amended and following taxonomy in the AOS 2019 supplement). Within families, the list arranges species alphabetically by scientific name. Common and scientific names follow Clements et al. (2017); any names occurring differently in the AOS 2019 supplement are in parentheses.

Family Anatidae

Mandarin Duck, Aix galericulata

Egyptian Goose, Alopochen aegyptiaca

Philippine Duck, Anas luzonica

Graylag Goose, Anser anser

Domestic Goose, Anser anser `domesticus'

Swan Goose, Anser cygnoides

Bar-headed Goose, Anser indicus

Red-breasted Goose, Branta ruficollis

Ringed Teal, Callonetta leucophrys

Maned Duck, Chenonetta jubata

Coscoroba Swan, Coscoroba coscoroba

Black Swan, Cygnus atratus

Black-necked Swan, Cygnus melancoryphus

Mute Swan, Cygnus olor

White-faced Whistling-Duck, Dendrocygna viduata

Rosy-billed Pochard, Netta peposaca

Red-crested Pochard, Netta rufina

Cotton Pygmy-Goose, Nettapus coromandelianus

Orinoco Goose, Oressochen jubatus (Neochen jubata)

Hottentot Teal, Spatula hottentota

Ruddy Shelduck, Tadorna ferruginea

Common Shelduck, Tadorna tadorna

Family Phoenicopteridae

Lesser Flamingo, Phoeniconaias minor

Chilean Flamingo, Phoenicopterus chilensis

Family Columbidae

Nicobar Pigeon, Caloenas nicobarica

Asian Emerald Dove, Chalcophaps indica

Rock Pigeon, Columba livia

Common Wood-Pigeon, Columba palumbus

Luzon Bleeding-heart, Gallicolumba luzonica

Diamond Dove, Geopelia cuneata

Bar-shouldered Dove, Geopelia humeralis

Zebra Dove, Geopelia striata

Spinifex Pigeon, Geophaps plumifera

Partridge Pigeon, Geophaps smithii

Wonga Pigeon, Leucosarcia melanoleuca

Crested Pigeon, Ocyphaps lophotes

Common Bronzewing, Phaps chalcoptera

Blue-headed Quail-Dove, Starnoenas cyanocephala

Island Collared-Dove, Streptopelia bitorquata

Spotted Dove, Streptopelia chinensis

Eurasian Collared-Dove, Streptopelia decaocto

African Collared-Dove, Streptopelia roseogrisea

Family Trochilidae

Black-throated Mango, Anthracothorax nigricollis

Family Rallidae

Gray-cowled Wood-Rail, Aramides cajaneus

Family Gruiidae

Demoiselle Crane, Anthropoides virgo

Sarus Crane, Antigone antigone

Black Crowned-Crane, Balearica pavonina

Gray Crowned-Crane, Balearica regulorum

Family Charadriidae

Southern Lapwing, Vanellus chilensis

Spur-winged Lapwing, Vanellus spinosus

Family Laridae

Silver Gull, Chroicocephalus novaehollandiae

Family Ciconiidae

Abdim's Stork, Ciconia abdimii

White Stork, Ciconia ciconia

Woolly-necked Stork, Ciconia episcopus

Black-necked Stork, Ephippiorhynchus asiaticus

Family Phalacrocoracidae

Red-legged Cormorant, Phalacrocorax gaimardi

Family Anhingidae

Oriental Darter, Anhinga melanogaster

Family Pelecanidae

Great White Pelican, Pelecanus onocrotalus

Pink-backed Pelican, Pelecanus rufescens

Family Threskiornithidae

Eurasian Spoonbill, Platalea leucorodia

Sacred Ibis, Threskiornis aethiopicus

Family Cathartidae

King Vulture, Sarcoramphus papa

Family Accipitridae

Variable Hawk, Geranoaetus polyosoma

Griffon-type Old World vulture, Gyps sp.

Bateleur, Terathopius ecaudatus

Family Strigidae

Spectacled Owl, Pulsatrix perspicillata

Family Corvidae

Black-throated Magpie-Jay, Calocitta colliei

White-necked Raven, Corvus albicollis

Carrion Crow, Corvus corone

Cuban Crow, Corvus nasicus

House Crow, Corvus splendens

Azure Jay, Cyanocorax caeruleus

San Blas Jay, Cyanocorax sanblasianus

Rufous Treepie, Dendrocitta vagabunda

Eurasian Jay, Garrulus glandarius

Red-billed Chough, Pyrrhocorax pyrrhocorax

Red-billed Blue-Magpie, Urocissa erythroryncha

Family Alaudidae

Japanese Skylark, Alauda japonica

Wood Lark, Lullula arborea

Calandra Lark, Melanocorypha calandra

Mongolian Lark, Melanocorypha mongolica

Family Paridae

Eurasian Blue Tit, Cyanistes caeruleus

Great Tit, Parus major

Varied Tit, Sittiparus varius

Family Cinclidae

White-throated Dipper, Cinclus cinclus

Family Sylviidae

Eurasian Blackcap, Sylvia atricapilla

Family Muscicapidae

Indian Robin, Copsychus fulicatus

White-rumped Shama, Copsychus malabaricus

Oriental Magpie-Robin, Copsychus saularis

European Robin, Erithacus rubecula

Japanese Robin, Larvivora akahige

Ryukyu Robin, Larvivora komadori

Common Nightingale, Luscinia megarhynchos

Family Turdidae

Song Thrush, Turdus philomelos

Red-throated Thrush, Turdus ruficollis

Family Prunellidae

Dunnock, Prunella modularis

Family Fringillidae

European Goldfinch, Carduelis carduelis

European Greenfinch, Chloris chloris

White-rumped Seedeater, Crithagra leucopygia

Yellow-fronted Canary, Crithagra mozambica

Eurasian Linnet, Linaria cannabina

Parrot Crossbill, Loxia pytyopsittacus

Island Canary, Serinus canaria

Red Siskin, Spinus cucullatus

Hooded Siskin, Spinus magellanicus

Family Emberizidae

Yellowhammer, Emberiza citrinella

Family Icteridae

Venezuelan Troupial, Icterus icterus

Spot-breasted Oriole, Icterus pectoralis

Montezuma Oropendola, Psarocolius montezuma

Red-breasted Meadowlark, Sturnella militaris

Family Cardinalidae

Orange-breasted Bunting, Passerina leclancherii

Red-hooded Tanager, Piranga rubriceps

Family Thraupidae

Yellow Cardinal, Gubernatrix cristata

Greater Antillean Bullfinch, Loxigilla violacea

Cuban Bullfinch, Melopyrrha nigra

Yellow-billed Cardinal, Paroaria capitata

Red-crested Cardinal, Paroaria coronata

Red-cowled Cardinal, Paroaria dominicana

Red-capped Cardinal, Paroaria gularis

Saffron Finch, Sicalis flaveola

Blue-gray Tanager, Thraupis episcopus

Cuban Grassquit, Tiaris canorus

The MBTA also does not apply to:

(1) Nonnative species introduced into the United States or U.S. territories by means of intentional or unintentional human assistance that belong to families or groups covered by the Canadian, Mexican, or Russian Conventions.

(2) Species native or nonnative to the United States or U.S. territories that either belong to families or groups not referred to in the Canada, Mexico, and Russia Conventions or are not included by species name in the Japan Convention. This includes the Tinamidae (tinamous), Megapodiidae (megapodes), Cracidae (chachalacas), Odontophoridae (New World quail), Phasianidae (grouse, ptarmigan, and turkeys), Pteroclidae (sandgrouse), Heliornithidae (finfoots), Burhinidae (thick-knees), Glareolidae (pratincoles), Todidae (todies), Psittacidae (parrots), Psittaculidae (Old World parrots), Meliphagidae (honeyeaters), Dicruridae (drongos), Monarchidae (monarchs), Pycnonotidae (bulbuls), Scotocercidae (bush warblers and allies),

Zosteropidae (white-eyes), Sturnidae (starlings, except as listed in Japanese treaty), Ploceidae (weavers), Estrildidae (estrildid finches), and Passeridae (Old World sparrows, including house or English sparrow), as well as numerous other families not represented in the United States or U.S. territories.

References Cited

American Ornithological Society. 2019. Sixtieth Supplement to the American Ornithological Society's Check-list of North American Birds. Auk 136:798-813.

American Ornithologists' Union. 1998. Check-list of North American birds: The species of birds of North America from the Arctic through Panama, including the West Indies and Hawaiian Islands. 7th edition. Washington, DC.

Clements, J.F., T.S. Schulenberg, M.J. Iliff, D. Roberson, T.A. Fredericks, B.L. Sullivan, and C.L. Wood. 2017. The eBird/Clements checklist of birds of the world: v2017. Downloaded from http://www.birds.cornell.edu/clementschecklist/download/.

Authority

The authority for this notice is the Migratory Bird Treaty Reform Act of 2004 (Division E, Title I, Sec. 143 of the Consolidated Appropriations Act, 2005; Pub. L. 108-447), and the Migratory Bird Treaty Act (16 U.S.C. 703-712).

Aurelia Skipwith,
Director, U.S. Fish and Wildlife Service.

[FR Doc. 2020-06782 Filed 4-15-20; 8:45 am]

BILLING CODE 4333-15-P